DEPARTMENT OF COMMERCE

National Oceanic and Atmospheric Administration

RIN 0648-XC791

Fisheries in the Western Pacific; Special Coral Reef Ecosystem Fishing Permit

AGENCY: National Marine Fisheries Service (NMFS), National Oceanic and Atmospheric Administration (NOAA), Commerce.

ACTION: Notice of availability of final environmental assessment and finding of no significant impact for the issuance of a special coral reef ecosystem fishing permit.

SUMMARY: NMFS issued a Special Coral Reef Ecosystem Fishing Permit that authorizes Kampachi Farms, LLC, to culture and harvest a coral reef ecosystem management unit fish species in a floating pen in Federal waters west of the Island of Hawaii. This notice informs the public that NMFS prepared an environmental assessment of the potential impacts of the proposed activity, and finds that there will be no significant impact to the environment from the activity.

DATES: The special coral reef ecosystem fishing permit is effective from October 25, 2013, through October 24, 2014.

ADDRESSES: You may review the final environmental assessment (EA) and finding of no significant impact, identified by NOAA-NMFS-2013-0125, at the Federal e-Rulemaking Portal www.regulations.gov/#!docketDetail;D=NOAA-NMFS-2013-0125.

FOR FURTHER INFORMATION CONTACT: Phyllis Ha, Sustainable Fisheries, NMFS PIR, tel 808-944-2265.

SUPPLEMENTARY INFORMATION: NMFS issued a Special Coral Reef Ecosystem Fishing Permit to Kampachi Farms, LLC, consistent with Federal regulations for Hawaii fisheries at 50 CFR § 665.224, pertaining to management of coral reef ecosystem fisheries, and in accordance with the Fishery Ecosystem Plan for the Hawaii Archipelago (FEP). The permit authorizes the culture and harvest of the native coral reef ecosystem management unit fish species Seriola rivoliana, marketed as Kona Kampachi®, using a floating cage tethered to a 28-ft vessel connected to a single-point mooring established at around 6,000 feet deep, approximately 5.5 nm west of Keauhou Bay, Hawaii.

NMFS published in the Federal Register a notice of availability of a draft EA and request for public comments on August 13, 2013 (78 FR 49258). NMFS received comments from eight individuals, and considered those comments by improving information in the baseline and the clarity of the final EA. None of the comments resulted in substantial changes to the analysis about the significance of impacts of the proposed action on the human environment in the final EA.

Based on the information in the final EA, NMFS determined that the action will not significantly impact the quality of the human environment.

Authority: 16 U.S.C. 1801 et seq.

Dated: November 1, 2013.
James P. Burgess,
Acting Deputy Director, Office of Sustainable Fisheries, National Marine Fisheries Service.

[FR Doc. 2013-26599 Filed 11-5-13; 8:45 am]

BILLING CODE 3510-22-P